FEDERAL COMMUNICATIONS COMMISSION

[AU Docket No. 13-53; DA 14-109]

Tribal Mobility Fund Phase I Auction; Updated List of Eligible Areas for Auction 902

AGENCY: Federal Communications Commission.

ACTION: Notice.

SUMMARY: In this document, the Commission's Wireless Telecommunications and Wireline Competition Bureaus provide an updated list of eligible areas for Auction 902, as well as other updated information consistent with the revised list.

DATES: Auction 902 is scheduled to commence on February 25, 2014.

FOR FURTHER INFORMATION CONTACT: Wireless Telecommunications Bureau, Auctions and Spectrum Access Division, Patricia Robbins (attorney) at (202) 418-0660. To request materials in accessible formats (Braille, large print, electronic files, or audio format) for people with disabilities, send an email to fcc504@fcc.gov or call the Consumer and Governmental Affairs Bureau at (202) 418-0530 or (202) 418-0432 (TTY).

SUPPLEMENTARY INFORMATION: This is a summary of the Auction 902 Updated Eligible Areas Public Notice released on February 3, 2014. The complete text of the Auction 902 Updated Eligible Areas Public Notice, including attachments and related Commission documents, is available for public inspection and copying from 8:00 a.m. to 4:30 p.m. Eastern Time (ET) Monday through Thursday or from 8:00 a.m. to 11:30 a.m. ET on Fridays in the FCC Reference Information Center, 445 12th Street SW., Room CY-A257, Washington, DC 20554. The Auction 902 Updated Eligible Areas Public Notice, including attachments and related Commission documents, also may be purchased from the Commission's duplicating contractor, Best Copy and Printing, Inc. (BCPI), 445 12th Street SW., Room CY-B402, Washington, DC 20554, telephone 202-488-5300, fax 202-488-5563, or you may contact BCPI at its Web site: http://www.BCPIWEB.com. When ordering documents from BCPI, please provide the appropriate FCC document number, for example, DA 14-109 for the Auction 902 Updated Eligible Areas Public Notice. The Auction 902 Updated Eligible Areas Public Notice, including attachments and related documents is available on the Internet at the Commission's Web site: http://wireless.fcc.gov/auctions/902/, or by using the search function for AU Docket No. 13-53 on the Commission's Electronic Comment Filing System (ECFS) Web page at http://www.fcc.gov/cgb/ecfs/.

1. The Wireless Telecommunications and Wireline Competition Bureaus (the Bureaus) release an updated list of eligible areas for the reverse auction that will award up to $50 million in one-time Tribal Mobility Fund Phase I support, Auction 902. The updated list reflects changes to the eligible areas for Auction 902 based on authorizations of support and default determinations from the initial auction of Mobility Fund Phase I support, Auction 901. Bidding in Auction 902 is scheduled to be held on Tuesday, February 25, 2014.

2. In the Auction 902 Procedures Public Notice, 78 FR 56875, September 16, 2013, the Bureaus identified areas eligible for the Tribal Mobility Fund Phase I support to be offered in Auction 902. At that time, the Bureaus released a file with information about the bidding areas for Auction 902 and a file containing detailed information about the census blocks of those bidding areas. In the list of bidding areas, the Bureaus identified with an asterisk the items with one or more census blocks that were the subject of a winning bid in Auction 901 for which the relevant long-form application remained pending. The Bureaus explained that if they determined prior to Auction 902 that any winning bids from Auction 901 covering blocks that would otherwise be eligible for Auction 902 could not be authorized, then such eligible blocks would be made available in the auction. Similarly, the Bureaus explained that they would exclude from Auction 902 any of the identified blocks for which they authorized Auction 901 support prior to the auction. The Bureaus subsequently released a public notice, 78 FR 61350, October 3, 2013, updating the list of eligible areas for Auction 902 to reflect Auction 901 authorizations of support and default determinations as of September 27, 2013.

3. The Bureaus announce the removal of certain census blocks for which support has been authorized for Auction 901 winning bids, as these blocks will not be available for support in Auction 902. The Bureaus note that in some cases, all of the census blocks for a particular bidding area have been removed, and thus that bidding area is no longer available in Auction 902. In other cases, only some of the census blocks for a particular bidding area have been removed, and thus that bidding area is still available in Auction 902 but includes fewer eligible populated census blocks.

4. Also, for those blocks on which Auction 901 winning bidders have defaulted, the Bureaus remove the asterisks in the list that previously identified the relevant census blocks as having received winning bids in Auction 901, and these areas will be eligible for bidding in Auction 902. There are no longer any asterisks in the list of eligible areas for Auction 902 because after these updates, the list is no longer subject to any pending Auction 901 long-form applications.

5. The updated list of bidding areas is released as Attachment A to the Auction 902 Updated Eligible Areas Public Notice. An updated version of the file containing detailed information about the census blocks of all of the bidding areas is available on the Auction 902 Web site at http://wireless.fcc.gov/auctions/902/. The interactive map of eligible areas has been updated to reflect these changes to the eligible areas for Auction 902. The link to the interactive map is available on the Auction 902 Web site at http://wireless.fcc.gov/auctions/902/, and the map itself is at http://www.fcc.gov/maps/tribal-mobility-fund-phase-1-eligible-areas. Geographic information system (GIS) data for the eligible areas is available as a downloadable shapefile on the Auction 902 Web site at http://wireless.fcc.gov/auctions/902/. The updated the census blocks file, the interactive map, and the GIS data include a notation indicating when they were updated.

6. Attachment B of the Auction 902 Updated Eligible Areas Public Notice lists the bidding areas that have been removed or modified since the prior list was released on September 27, 2013. These changes have been incorporated into each of the Auction 902 short-form applications (FCC Form 180), where applicable.

Federal Communications Commission.
Gary D. Michaels,
Deputy Chief, Auctions and Spectrum Access Division, WTB.

[FR Doc. 2014-03208 Filed 2-12-14; 8:45 am]

BILLING CODE 6712-01-P